SMALL BUSINESS ADMINISTRATION

[Declaration of Disaster #3508]

Commonwealth of Kentucky

As a result of the President's major disaster declaration on June 3, 2003, I find that Anderson, Boyd, Breckinridge, Boyle, Bullitt, Caldwell, Carter, Crittenden, Elliott, Fleming, Garrard, Grayson, Greenup, Hardin, Hart, Henderson, Hopkins, Jefferson, Jessamine, Larue, Lewis, Lawrence, Mason, McLean, Meade, Mercer, Nelson, Rowan, Union, Washington, Webster and Woodford Counties in the Commonwealth of Kentucky constitute a disaster area due to damages caused by severe storms, flooding, mud and rock slides, and tornadoes occurring on May 4 through May 27, 2003. Applications for loans for physical damage as a result of this disaster may be filed until the close of business on August 4, 2003, and for economic injury until the close of business on March 3, 2004, at the address listed below or other locally announced locations: U.S. Small Business Administration, Disaster Area 2 Office, One Baltimore Place, Suite 300, Atlanta, GA 30308.

In addition, applications for economic injury loans from small businesses located in the following contiguous counties may be filed until the specified date at the above location: Barren, Bath, Bracken, Butler, Casey, Christian, Daviess, Edmonson, Fayette, Franklin, Green, Hancock, Johnson, Lincoln, Livingston, Lyon, Madison, Marion, Martin, Menifee, Metcalfe, Morgan, Muhlenberg, Nicholas, Ohio, Oldham, Robertson, Rockcastle, Scott, Shelby, Spencer, Taylor and Trigg in the Commonwealth of Kentucky; Adams, Brown, Lawrence and Scioto counties in the State of Ohio; Gallatin and Hardin counties in the State of Illinois; Clark, Crawford, Floyd, Harrison, Perry, Posey, Spencer, Vanderburgh and Warrick counties in the State of Indiana; and Wayne county in the State of West Virginia.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 350811. For economic injury the number is 9V7500 for Kentucky; 9V7600 for Ohio; 9V7700 for Illinois; 9V7800 for Indiana; and 9V7900 for West Virginia.

(Catalog of Federal Domestic Assistance Program Nos. 59002 and 59008)

Dated: June 4, 2003.
Herbert L. Mitchell,
Associate Administrator for Disaster Assistance.

[FR Doc. 03-14855 Filed 6-11-03; 8:45 am]

BILLING CODE 8025-01-P